DEPARTMENT OF LABOR

Employment and Training Administration

[TA-W-50,639]

Maya Kanulie, Togiak, AK; Notice of Termination of Investigation

Pursuant to section 221 of the Trade Act of 1974, as amended, an investigation was initiated on January 22, 2003 in response to a petition filed by a company official on behalf of workers at Maya Kanulie, Togiak, Alaska.

The Department has been unable to locate the company official to obtain the information necessary to issue a determination on worker group eligibility. Consequently, further investigation in this case would serve no purpose, and the investigation is terminated.

Signed at Washington, DC, this 9th day of April, 2003.
Linda G. Poole,
Certifying Officer, Division of Trade Adjustment Assistance.

[FR Doc. 03-10354 Filed 4-25-03; 8:45 am]

BILLING CODE 4510-30-P